DEPARTMENT OF THE TREASURY

Internal Revenue Service

Proposed Collection; Comment Request Concerning Power of Attorney and Declaration of Representative

AGENCY: Internal Revenue Service (IRS), Treasury.

ACTION: Notice and request for comments.

SUMMARY: The Internal Revenue Service, as part of its continuing effort to reduce paperwork and respondent burden, invites the general public and other Federal agencies to take this opportunity to comment on continuing information collections, as required by the Paperwork Reduction Act of 1995 (PRA 95). The IRS is soliciting comments concerning power of attorney and declaration of representative.

DATES: Written comments should be received on or before April 8, 2024 to be assured of consideration.

ADDRESSES: Direct all written comments to Andrea Garcia, Internal Revenue Service, room 6526, 1111 Constitution Avenue NW, Washington, DC 20224 or by email to pra.comments@irs.gov. Please include the OMB Control Number 1545-0150 or Forms 2848 and 2848-SP in the Subject line.

FOR FURTHER INFORMATION CONTACT: Requests for additional information or copies of the forms should be directed to Sara Covington, at (202) 317-5744 or Internal Revenue Service, Room 6526, 1111 Constitution Avenue NW, Washington DC 20224, or through the internet, at sara.l.covington@irs.gov.

SUPPLEMENTARY INFORMATION:

Title: Power of Attorney and Declaration of Representative.

OMB Number: 1545-0150.

Form Number: 2848 and 2848 (SP).

Abstract: Form 2848 or Form 2848 (SP) is issued to authorize someone to act for the taxpayer in tax matters. It grants all powers that the taxpayer has except signing a return and cashing refund checks. The information on the form is used to identify representatives and to ensure that confidential information is not divulged to unauthorized persons.

Current Actions: There are no changes being made to the forms at this time, however the estimated number of responses were reduced based on the current filing data.

Type of Review: Extension of a currently approved collection.

Affected Public: Individuals or households, business or other for-profit organizations, not-for-profit institutions, and farms.

Form 2848

Estimated Number of Respondents: 378,087.

Estimated Time per Respondent: 1.99 hours.

Estimated Total Annual Burden Hours: 752,393 hours.

Form 2848 (SP)

Estimated Number of Respondents: 80,000.

Estimated Time per Respondent: 2.26 hours.

Estimated Total Annual Burden Hours: 180,800 hours.

The following paragraph applies to all the collections of information covered by this notice.

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: February 1, 2024.
Sara L. Covington,
IRS Tax Analyst.

[FR Doc. 2024-02476 Filed 2-6-24; 8:45 am]

BILLING CODE 4830-01-P